DEPARTMENT OF THE TREASURY

Fiscal Service

Surety Companies Acceptable on Federal Bonds—Change In Business Address; American Home Assurance Company; Granite State Insurance Company; Insurance Company of the State of Pennsylvania (The); National Union Fire Insurance Company of Pittsburgh, PA; New Hampshire Insurance Company

AGENCY: Financial Management Service, Fiscal Service, Department of the Treasury.

ACTION: Notice.

SUMMARY: This is Supplement No. 5 to the Treasury Department Circular 570, 2009 Revision, published July 1, 2009, at 74 FR 31536.

FOR FURTHER INFORMATION CONTACT: Surety Bond Branch at (202) 874-6850.

SUPPLEMENTARY INFORMATION: Notice is hereby given by the Treasury that the above-named companies formally changed their “BUSINESS ADDRESS” to “175 WATER STREET, 18TH FLOOR, NEW YORK, NY 10038” effective June 30, 2009.

Federal bond-approving officials should annotate their reference copies of the Treasury Department Circular 570 (“Circular”), 2009 Revision, to reflect this change.

The Circular may be viewed and downloaded through the Internet at http://www.fms.treas.gov/c570.

Questions concerning this notice may be directed to the U.S. Department of the Treasury, Financial Management Service, Financial Accounting and Services Division, Surety Bond Branch, 3700 East-West Highway, Room 6F01, Hyattsville, MD 20782.

Laura Carrico,
Acting Director, Financial Accounting and Services Division.

[FR Doc. E9-27861 Filed 11-19-09; 8:45 am]

BILLING CODE 4810-35-M